DEPARTMENT OF THE INTERIOR

Bureau of Land Management

[UT 934-1610-DP]

Modification of Previous Notices of Intent to Prepare Proposed Plan Revisions for the Vernal Field Office Resource Management Plan (RMP), Price Field Office RMP, and the Richfield Field Office RMP in Utah

AGENCY: Bureau of Land Management, Interior.

ACTION: Notice.

SUMMARY: This notice of modification is to advise the public that the Bureau of Land Management, Utah, will not consider establishing additional Wilderness Study Areas in the above named plans.

FOR FURTHER INFORMATION CONTACT: Maggie Kelsey, Utah State Office, Bureau of Land Management, 324 South State Street, Salt Lake City, Utah 84111: phone: (801) 539-4068.

Background Information: On April 14, 2003, a settlement agreement was reached between the Department of the Interior and the State of Utah, Utah School and Institutional Trust Lands Administration, and Utah Association of Counties regarding the designation of Wilderness Study Areas (WSAs) through the Bureau of Land Management's (BLM's) planning process. As a result of the settlement, the BLM will not consider the designation of new WSAs or the classification or management of BLM lands as if they are or may become new WSAs in the above named Resource Management Plans.

Dated: May 5, 2003.
Sally Wisely,
Utah State Director.

[FR Doc. 03-13922 Filed 6-3-03; 8:45 am]

BILLING CODE 4310-$$-P